NUCLEAR REGULATORY COMMISSION

[Docket Nos. 50-325 and 50-324]

Carolina Power & Light Company; Brunswick Steam Electric Plant, Units 1 and 2; Environmental Assessment and Finding of No Significant Impact

The U.S. Nuclear Regulatory Commission (NRC) is considering issuance of an exemption from Title 10 of the Code of Federal Regulations, Part 50, Section 36a(a)(2) (10 CFR 50.36a(a)(2)) for Facility Operating License Nos. DPR-71 and DPR-62, issued to Carolina Power & Light Company (CP&L, the licensee) for operation of the Brunswick Steam Electric Plant, Units 1 and 2, located in Brunswick County, North Carolina.

Environmental Assessment

Identification of the Proposed

The proposed action is a one-time exemption from the requirements of 10 CFR 50.36a(a)(2) to submit a Radioactive Effluent Release Report no later than 12 months from the date of the last report. Under the proposed exemption, the licensee would delay the next report by 2 months, for a total of 14 months from the previous report. This would be a one-time exemption.

The proposed action is in accordance with the licensee's application for exemption dated December 1, 2000.

The Need for the Proposed

In accordance with 10 CFR 50.36a(a)(2), each licensee is required to submit a report to the Commission annually that specifies the quantity of each of the principal radionuclides released to unrestricted areas in liquid and in gaseous effluents during the previous 12 months, including any other information as may be required by the Commission to estimate maximum potential annual radiation doses to the public resulting from effluent releases. The report must be submitted as specified in § 50.4, and the time between submission of the reports must be no longer than 12 months. CP&L has proposed an amendment to Technical Specification 5.6.3 to change the submittal date for the report to “prior to May 1.” The approval of the amendment necessitates the required submittal date for the year 2000 report be changed to “prior to May 1, 2001.” With this change, the licensee needs a one-time exemption to allow 14 months between reports.

In summary, the exemption does not affect the information required to be submitted or the time period the report covers, only the date the report is submitted.

Environmental Impacts of the Proposed

The NRC has completed its evaluation of the proposed action and concludes that the proposed action involves an administrative activity (a due date change for a required report) unrelated to plant operations.

The proposed action will not significantly increase the probability or consequences of accidents, no changes are being made in the types of any effluents that may be released off site, and there is no significant increase in occupational or public radiation exposure. Therefore, there are no significant radiological environmental impacts associated with the proposed action.

With regard to potential non-radiological impacts, the proposed action does not involve any historic sites. It does not affect non-radiological plant effluents and has no other environmental impact. Therefore, there are no significant non-radiological environmental impacts associated with the proposed action. Accordingly, the NRC concludes that there are no significant environmental impacts associated with the proposed action.

Alternatives to the Proposed

As an alternative to the proposed action, the staff considered denial of the proposed action (i.e., the “no-action” alternative). Denial of the application would result in no change in current environmental impacts. The environmental impacts of the proposed action and the alternative action are similar.

Alternative Use of Resources

This action does not involve the use of any resources not previously considered in the Final Environmental Statement for the Brunswick Steam Electric Station.

Agencies and Persons Consulted

In accordance with its stated policy, on December 20, 2000, the staff consulted with Mr. Johnny James of the North Carolina Department of Environment and Natural Resources, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated December 1, 2000. Documents may be examined, and/or copied for a fee, at the NRC's Public Document Room, located at One White Flint North, 11555 Rockville Pike (first floor), Rockville, Maryland. Publicly available records will be accessible electronically from the ADAMS Public Library component on the NRC Web site, http://www.nrc.gov (the Electronic Reading Room).

Dated at Rockville, Maryland, this 29th day of January 2001.
For the Nuclear Regulatory Commission.
Donnie J. Ashley,
Project Manager, Section 2, Project Directorate II, Division of Licensing Project Management, Office of Nuclear Reactor Regulation.

[FR Doc. 01-2830 Filed 2-1-01; 8:45 am]

BILLING CODE 7590-01-U